DEPARTMENT OF HOUSING AND URBAN DEVELOPMENT

[Docket No. FR-5450-N-04]

Federal Housing Administration (FHA): PowerSaver Home Energy Retrofit Loan Pilot Program: Extension of Pilot Program

AGENCY: Office of the Assistant Secretary for Housing—Federal Housing Commissioner, HUD.

ACTION: Notice.

SUMMARY: On March 31, 2011, HUD published a notice that announced HUD's FHA Home Energy Retrofit Loan Pilot Program (Retrofit Pilot Program) known as FHA PowerSaver, which is a pilot program conducted for loans originated during a period of two years, commencing on May 2, 2011. The Retrofit Pilot Program is authorized by the Energy Innovation Fund of the 2010 Appropriations Act, which directs HUD to conduct an Energy Efficient Mortgage Innovation pilot program targeted to the single family housing market. The March 31, 2011, notice provided that HUD may extend the duration of the pilot program through Federal Register notice. HUD uses this authority to extend the Retrofit Pilot Program to Title I loan applications dated on or before May 4, 2015.

DATES: The Retrofit Pilot Program is extended for an additional two years to include Title I loan applications dated on or before May 4, 2015.

FOR FURTHER INFORMATION CONTACT: Patricia McBarron, Office of Single Family Housing Development, Office of Housing, Department of Housing and Urban Development, 451 7th Street, SW., Washington, DC 20410-8000; telephone number 202-708-2121 (this is not a toll-free number). Persons with hearing or speech impairments may access this number through TTY by calling the toll-free Federal Relay Service at 800-877-8339.

SUPPLEMENTARY INFORMATION: The Consolidated Appropriations Act, 2010 (Pub. L. 111-117, approved December 16, 2009, 123 Stat. 3034), directed HUD to conduct an Energy Efficient Mortgage Innovation pilot program targeted to the single family housing market and allocated $25,000,000 for such pilot program. On March 31, 2011, HUD published a notice at 76 FR 17936 that announced HUD's FHA Home Energy Retrofit Loan Pilot Program known as FHA PowerSaver. The Retrofit Pilot Program, operating under Title I, section 2 of the National Housing Act (12 U.S.C. 1703), authorizes HUD to provide loan insurance in order to help homeowners finance energy-saving alterations, repairs, and improvements in connection with existing structures or manufactured homes.

The March 31, 2011, notice provided that the Retrofit Pilot Program would be conducted for loans originated during a period of two years, commencing on May 2, 2011 and ending on May 2, 2013. The notice also provided that HUD may extend the duration of the Retrofit Pilot Program through Federal Register notice in order to better assess the program's effectiveness. HUD has determined that an extension of the Retrofit Pilot Program, as provided in the March 31, 2011, notice, is desirable for evaluating its success. An extension will enable more lenders and homeowners to participate in the Retrofit Pilot Program, thereby providing additional data for HUD's use in assessing the program's success. Accordingly, through this notice, HUD extends the Retrofit Pilot Program for an additional 2 years, to Title I loan applications dated on or before May 4, 2015.

Dated: February 5, 2013.
Carol J. Galante,
Assistant Secretary for Housing—Federal Housing Commissioner.

[FR Doc. 2013-03205 Filed 2-11-13; 8:45 am]

BILLING CODE 4210-67-P